UNIFIED CARRIER REGISTRATION PLAN

Sunshine Act Meeting Notice; Unified Carrier Registration Plan Board of Directors Meeting

TIME AND DATE: August 1, 2019, from 9:00 a.m. to 12:00 p.m., Eastern daylight time.

PLACE: National Press Building, 2nd Floor Conference Room, 529 14th Street NW, Washington, DC. This meeting will also be accessible via conference call. Any interested person may call 1-866-210-1669, passcode 5253902#, to listen and participate in the open portions of the meeting.

STATUS: Parts of this meeting will be open to the public. Parts of this meeting will be closed to the public pursuant to Government in the Sunshine Act exemptions (c)(9)(B) and (c)(10) (see agenda below for further information).

MATTERS TO BE CONSIDERED: The Unified Carrier Registration Plan Board of Directors (the “Board”) will continue its work in developing and implementing the Unified Carrier Registration Plan and Agreement. The subject matter of the meeting will include:

Agenda

Portions Open to the Public

I. Welcome, Call to Order, and Introductions—UCR Acting Chair

UCR Chair will welcome attendees and call the meeting to order.

II. Verification of Publication of Meeting Notice—UCR Acting Chair

UCR Chair will report the date of meeting notice publication in Federal Register.

III. Review and Approval of Agenda and Setting of Ground Rules—UCR Chair

For Discussion and Possible Board Action

Agenda will be reviewed and the Board will consider adoption.

Ground Rules

• Board action only to be taken in designated areas on agenda.

• Please MUTE your telephone.

• Do NOT place call on hold.

IV. Approval of Minutes of the June 4, 2019 UCR Board Meeting—UCR Acting Chair

For Discussion and Possible Board Action

• Minutes of the June 4, 2019 Board meeting will be reviewed and the Board will consider approval.

V. Subcommittee Reports—Subcommittee Chairs

Finance Subcommittee Report

A. Proposal for Funding Unbudgeted Expense Reserve—Subcommittee Chair

For Discussion and Possible Board Action

Proposal for establishing an amount to fund the unbudgeted expense reserve at a level of $1.5 million to $2.5 million will be reviewed and the Board will consider action.

B. Closing 2018 Registration Year on Sept. 30—Subcommittee Chair

For Discussion and Possible Board Action

Proposal to close the 2018 UCR registration year on September 30, 2019 will be reviewed and the Board will consider action.

C. Subcommittee Reports & Updates—Subcommittee Chair

(No Board action to be taken)

Update on the UCR-related audit conducted by the state of Texas in connection with its effort to obtain an increase in its UCR entitlement cap will be presented to the Board.

Report on the status of the preparation of a fee recommendation for the 2020-21 UCR registration year will be presented to the Board.

Audit Subcommittee Report

Subcommittee Reports & Updates—Subcommittee Chair

(No Board action to be taken)

Update on plan for rollout of new module in National Registration System that will enable the 41 participating states to conduct annual carrier audits will be presented to the Board.

Report on the timeline for conducting the remaining compliance reviews scheduled for 2019 in Kansas, Minnesota and Wisconsin will be presented to the Board.

Report on the status of the Subcommittee's plan to select eight (8) states scheduled in 2020 for UCR compliance reviews will be presented to the Board.

Registration System Subcommittee Report

Subcommittee Reports & Updates—Subcommittee Chair

(No Board action to be taken)

Report on the status of retaining a third-party to conduct security testing of National Registration System will be presented to the Board.

Report on the Subcommittee's efforts to determine additional technology requirements needed to integrate independent state registration systems with National Registration System will be presented to the Board.

Education and Training Subcommittee Report

Subcommittee Reports & Updates—Subcommittee Chair

(No Board action to be taken)

Report on the results of a recent focus group meeting to prioritize education topics for initial rollout of the new UCR education/training program will be presented to the Board.

Industry Advisory Subcommittee Report

Subcommittee Reports & Updates—Subcommittee Chair

(No Board action to be taken)

Status of the Subcommittee's efforts to solicit feedback from carriers on performance of National Registration System will be presented to the Board.

VI. Updates Concerning UCR Legislation—UCR Acting Chair

UCR Chair will call for any updates regarding UCR Legislation since the last Board meeting.

VII. Report of FMCSA—FMCSA

FMC FMCSA will provide a report on any relevant activity or rulemaking, including the status of the 2020 UCR fee rulemaking and pending appointments for Board seats and Chair.SA will provide updates on any relevant activity or rulemaking.

VIII. Contractor Reports

• UCR Administrator (Kellen)

UCR Administrator will provide management report covering recent activity for the Depository, Operations, and Communications activities.

• DSL Transportation Services, Inc.

DSL will report on the latest data on state collections based on reporting from the Focused Anomalies Review (FARs) program.

• Seikosoft

Seikosoft will report on recent development-enhancements to the National Registration System.

Portions Closed to the Public

IX. Update Board RE: Data Investigation—UCR Acting Chair, Scott Morris, and Chief Legal Officer

Board will receive an update concerning the status of the data investigation reported to the Board at its June 4, 2019 meeting.

X. Update on Twelve Percent Logistics Litigation—UCR Acting Chair, Scott Morris, and Chief Legal Officer

Board will receive an update on the status of the ongoing litigation reported to the Board at its June 4, 2019 meeting.

Portions Open to the Public

XI. Old/New Matters—UCR Acting Chair

UCR Acting Chair will call for any business requiring possible Board action for inclusion on the August 1, 2019 Board agenda. UCR Chair will call for any old or new business from the floor.

XII. Future UCR Meetings—UCR Acting Chair

UCR Acting Chair will review the schedule for upcoming Board and Subcommittee meetings.

XIII. Adjourn

UCR Chair will adjourn the meeting.

This agenda will be available no later than 5:00 p.m. Eastern daylight time, July 19, 2019 at: https://plan.ucr.gov.

CONTACT PERSON FOR MORE INFORMATION: Elizabeth Leaman, Acting Chair, Unified Carrier Registration Plan Board of Directors, (617) 305-3783, elizabeth.leaman@state.ma.us.

Alex B. Leath,
Chief Legal Officer, Unified Carrier Registration Plan.

[FR Doc. 2019-15522 Filed 7-17-19; 4:15 pm]

BILLING CODE 4910-YL-P